DEPARTMENT OF ENERGY

Federal Energy Regulatory Commission

[Docket No. MT00-9-000]

PG&E Gas Transmission, Northwest Corporation; Notice of Tariff Filing

July 7, 2000.

Take notice that on June 30, 2000, PG&E Gas Transmission, Northwest Corporation (PG&E GTN) tendered for filing as part of its FERC Gas Tariff, First Revised Volume No. 1-A, Ninth Revised Sheet No. 52 and Fourth Revised Sheet No. 85. PG&E GTN requests that these tariff sheets become effective August 1, 2000.

PG&E GTN asserts that the purpose of this filing is to update its Tariff to reflect additions and deletions to its list of Marketing Affiliates and to modify its Tariff to specify that PG&E GTN no longer shares any facilities or operating personnel with its Marketing Affiliates.

PG&E GTN further states that a copy of this filing has been served on PG&E GTN's jurisdictional customers and interested state regulatory agencies.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-17729 Filed 7-12-00; 8:45 am]

BILLING CODE 6717-01-M